DEPARTMENT OF HOMELAND SECURITY

Federal Emergency Management Agency

[Docket ID FEMA-2015-0001]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of June 2, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: April 22, 2015.
Roy E. Wright,
Deputy Associate Administrator for Mitigation, Department of Homeland Security, Federal Emergency Management Agency.

Community | Community map repository address
Kane County, Illinois, and Incorporated Areas
Docket No.: FEMA-B-1410
Unincorporated Areas of Kane County | Kane County Government Center, 719 Batavia Avenue, Building A, Water Resources Department, Geneva, IL 60134.
Village of Burlington | Village Hall, 175 Water Street, Burlington, IL 60109.
Village of Hampshire | Village Hall, 234 South State Street, Hampshire, IL 60140.
Greene County, New York (All Jurisdictions)
Docket No.: FEMA-B-1404
Town of Hunter | Hunter Town Hall, 5748 State Route 23A, Tannersville, NY 12485.
Town of Jewett | Municipal Building, 3547 County Route 23C, Jewett, NY 12444.
Town of Lexington | Municipal Building, 3542 State Route 42, Lexington, NY 12542.
Village of Hunter | Village Hall, 7955 Main Street, Hunter, NY 12442.
Village of Tannersville | Village Hall, 1 Park Lane, Tannersville, NY 12485.
Pittsburg County, Oklahoma, and Incorporated Areas
Docket No.: FEMA-B-1404
Town of Kiowa | City Hall, 813 South Harrison Street, Kiowa, OK 74553.
Unincorporated Areas of Pittsburg County | Pittsburg County Courthouse, 115 East Carl Albert Parkway, McAlester, OK 74501.
Weber County, Utah, and Incorporated Areas
Docket No.: 1243 and 1267
City of Ogden | City Hall, 2549 Washington Boulevard, Ogden, UT 84401.
City of Riverdale | City Hall, 4600 South Weber River Drive, Riverdale, UT 84405.
City of Uintah | City Hall, 2191 East 6550 South, Uintah, UT 84405.
Town of Huntsville | Town Hall, 7309 East 200 South, Huntsville, UT 84317.
Unincorporated Areas of Weber County | Weber County Government Building, 2380 Washington Boulevard, Ogden, UT 84401.
Prince George County, Virginia, and Incorporated Areas
Docket No.: FEMA-B-1401
Unincorporated Areas of Prince George County | Prince George County Planning and Zoning Office, 6602 Courts Drive, 1st Floor, Prince George, VA 23875.

[FR Doc. 2015-11976 Filed 5-15-15; 8:45 am]

BILLING CODE 9110-12-P